DEPARTMENT OF TRANSPORTATION

Coast Guard

33 CFR Part 165

[COTP Memphis, TN Regulation 00-014]

RIN 2115-AA97

United States Army Bridge Exercise Across the Arkansas River

AGENCY: Coast Guard, DOT.

ACTION: Temporary final rule.

SUMMARY: The Coast Guard is establishing a safety zone for the Arkansas River mile 290.0 to 293.0. The zone is needed because of a bridge exercise being held by the United States Army. To ensure the safety of life and property on the navigable waters during this exercise, no vessels may enter or remain within this safety zone unless specifically authorized by the Captain of the Port, Memphis.

DATES: This rule is effective from 8:00 A.M. CST to 4:00 P.M. CST on July 25, 2000.

ADDRESSES: Comments and material received from the public, as well as documents indicated in this preamble as being available in the docket, are part of docket 00-014 and are available for inspection or copying at U.S. Coast Guard Marine Safety Office Memphis between 7:30 A.M. and 4:00 P.M., Monday through Friday, except Federal holidays.

FOR FURTHER INFORMATION CONTACT: COTP Memphis representative, LTJG Brian Meier, at (901) 544-3941, ext. 232.

SUPPLEMENTARY INFORMATION:

Regulatory Information

We did not publish a notice of proposed rulemaking (NPRM) for this regulation. Under 5 U.S.C. 553(b)(B), the Coast Guard finds that good cause exists for not publishing an NPRM. After speaking with the Chairman of the Arkansas River Emergency Reaction Team, both the Coast Guard and local industry agreed that the exercise would cause minimal commercial disturbance. Under 5 U.S.C. (d)(3), the Coast Guard also finds good cause to make this rule effective less than 30 days after publication in the Federal Register.

Background and Purpose

The United States Army Reserve Command (USARC) has identified the 493rd Engineer Group to be the Executing Command for BRIDGEX 2000 to be conducted at Ft. Chaffee, AR. Two floating ribbon bridges will be constructed across the Arkansas River. These two bridges will be made up of approximately 100 pieces of floating road or raft bays, and will be connected together using approximately 60 boats. These two bridges will then be used to cross military vehicles from both shores in both directions. After the bridges are disassembled and the river is cleared of all army equipment, the river will be reopened to commercial and recreational traffic. The purpose of any river crossing is to project combat power across a water obstacle to accomplish a mission. The 493rd Engineer Group and its attached units will utilize this exercise to sharpen skills in preparation for doing this mission in times of peace or in times of war. This regulation is issued pursuant to 33 U.S.C. 1231 as set out in the authority citation for all of Part 165.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979). The Coast Guard expects the economic impact of this rule to be so minimal that a full regulatory evaluation is unnecessary. The regulation will only be in effect for a short period of time, and the impacts on routine navigation are expected to be minimal.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This regulation will only be in effect for eight hours and the impacts on small entities are expected to be minimal.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this rule and concluded that under figure 2-1, paragraph (34)g, of Commandant Instruction M16475.lC, this rule is categorically excluded from further environmental documentation.

List of Subjects in 33 CFR Part 165

Harbors, Marine safety, Navigation (water), Reporting and recordkeeping requirements, Security measures, Waterways.

For the reasons discussed in the preamble, the Coast Guard amends 33 CFR part 165 as follows:

PART 165—[AMENDED]

1. The authority citation for part 165 continues to read as follows:

Authority: 33 U.S.C. 1225 and 1231; 50 U.S.C. 191; and 33 CFR 1.05-1(g), 6.04-1, 6.04-6, and 1605; 49 CFR 1.46.

2. A new § 165.T08-029 is added to read as follows:

§ 165.T08-029 Safety Zone: Arkansas River Mile 290 to 293.

(a) Location. The following area is a safety zone: the waters of the Arkansas River between miles 290.0 and 293.0. The zone is needed because of a bridge exercise being held by the United States Army.

(b) Effective date. This section is effective on July 25, 2000, from 8 a.m. (CST) until 4 p.m. (CST) unless sooner terminated by the Captain of the Port.

(c) Regulations. In accordance with the general regulations in § 165.23 of this part, entry into this zone is prohibited unless authorized by the Captain of the Port Memphis.

Dated: May 19, 2000.
Michael S. Gardiner,
Lieutenant Commander, U.S. Coast Guard, Acting Captain of the Port.

[FR Doc. 00-17366 Filed 7-7-00; 8:45 am]

BILLING CODE 4910-15-U